DEPARTMENT OF ENERGY

Federal Energy Regulatory Commission

[IC02-11-000, FERC Form 11]

Proposed Information Collection and Request for Comments

April 9, 2002.

AGENCY: Federal Energy Regulatory Commission.

ACTION: Notice of proposed information collection and request for comments.

SUMMARY: In compliance with the requirements of Section 3506(c)(2)(a) of the Paperwork Reduction Act of 1995 (Pub. L. No. 104-13), the Federal Energy Regulatory Commission (Commission) is soliciting public comment on the specific aspects of the information collection described below.

DATES: Consideration will be given to comments submitted within 60 days of the publication of this notice.

ADDRESSES: Copies of the proposed collection of information can be obtained from and written comments may be submitted to the Federal Energy Regulatory Commission, Attn: Michael Miller, Office of the Chief Information Officer, CI-1, 888 First Street NE, Washington, DC 20426.

FOR FURTHER INFORMATION CONTACT: Michael Miller may be reached by telephone at (202)208-1415, by fax at (202)208-2425, and by e-mail at michael.miller@ferc.gov.

SUPPLEMENTARY INFORMATION: The information collected under the requirements of FERC Form 11 “Natural Gas Monthly Quarterly Statement of Monthly Data” (OMB No. 1902-0032) is used by the Commission to implement the statutory provisions of Sections 10(a), and 16 of the Natural Gas Act (NGA) 15 U.S.C. 717-717w and the Natural Gas Policy Act of 1978 (NGPA) (15 § U.S.C. 3301-3432). The NGA and NGPA authorize the Commission to prescribe rules and regulations requiring natural gas pipeline companies whose gas was transported or stored for a fee which exceeded 50 million dekatherms in each of the three previous calendar years to submit FERC Form 11. The Commission implements these filing requirements in the Code of Federal Regulations (CFR) under 18 CFR Section 260.3 and Section 385.2011.

Although the submission of the form is quarterly, the information is reported on a monthly basis. This permits the Commission to follow developing trends on a pipeline's system. Gas revenues and quantities of gas by rate schedule, transition costs from upstream pipelines, and reservation charges are reported. This information is used by the Commission to assess the reasonableness of the various revenues and costs of service items claimed in rate filings. It also provides the Commission with a view of the status pipeline activities, allows revenue comparisons between pipelines, and provides the financial status of the regulated pipelines.

Action: The Commission is requesting a three-year extension of the current expiration date, with no changes to the existing collection of data.

Burden Statement: Public reporting burden for this collection has been reduced by the elimination of several schedules and the paper filing format requirement. The burden is estimated as:

Number of respondents annually (1) | Number of responses per respondent (2) | Average burden hours per response (3) | Total annual burden in hours (1)x(2)x(3)
55 | 4 | 3 | 660

The estimated cost burden to respondents is $37,138 (660 hours / 2,080 hours per year × $117,041 per year average employee = $37,138). The cost per respondent is equal to $ 675.

The reporting burden includes the total time, effort, or financial resources expended to generate, maintain, retain, disclose, or provide the information including:

(1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond.

Magalie R. Salas,
Secretary.

[FR Doc. 02-9025 Filed 4-12-02; 8:45 am]

BILLING CODE 6717-01-P